DEPARTMENT OF ENERGY

Federal Energy Regulatory Commission

[Docket No. IC05-561-001; FERC-561]

Commission Information Collection Activities, Proposed Collection; Comment Request; Extension

April 15, 2005.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and an extension of the expiration date for this information collection requirement. Any interested person may file comments directly with OMB and should address a copy of those comments to the Commission as explained below. The Commission received no comments in response to an earlier Federal Register notice of January 31, 2005 (70 FR 4831-32) and has made this notation in its submission to OMB.

DATES: Comments on the collection of information are due by May 20, 2005.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at (202) 395-4650. A copy of the comments should also be sent to the Federal Energy Regulatory Commission, Office of the Executive Director, ED-33, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC05-561-001.

Documents filed electronically via the Internet must be prepared in MS Word, Portable Document Format, Word Perfect or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at (202) 502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-561 “Annual Report of Interlocking Positions”.

2. Sponsor: Federal Energy Regulatory Commission.

3. Control No.: 1902-0099.

The Commission is now requesting that OMB approve this information collection with a three-year extension of the expiration date, with no changes to the existing collection. The information filed with the Commission is mandatory.

4. Necessity of the Collection of Information: Submission of the information is necessary to enable the Commission to implement the statutory provisions of Title II, section 211 of the Public Utility Regulatory Policies Act of 1978 (PURPA) (16 U.S.C. 825d) which amended part III section 305(c) of the Federal Power Act (FPA). Submission of the list is necessary to fulfill the requirements of section 211—Interlocking Directorates, which defines monitoring and regulatory operations concerning interlocking directorate positions held by utility personnel and possible conflicts of interest. The information is collected by the Commission to identify persons holding interlocking position between public utilities and possible conflicts of interest. Through this process, the Commission is able to review and exercise oversight of interlocking directorates of public utilities and their related activities. Specifically, the Commission must determine that individuals in utility operations holding two positions at the same time would not adversely affect the public interest. The Commission can employ enforcement proceedings when violations and omissions of the Act's provisions occur. The reporting requirements are found at 18 CFR 46.6 and 131.31.

5. Respondent Description: The respondent universe is comprised of public utilities and from those entities the Commission received reports from 1,649 persons serving as officers or directors of those concerns.

6. Estimated Burden: 412 total hours, 1649 respondents, 1 response per respondent, and .25 hours per response (average).

7. Estimated Cost Burden to Respondents: $21,503. (412 hours divided by 2,080 hours per year per employee times $108,558 per year average per employee). The cost per respondent is $13.

Statutory Authority: Section 305(c) of the Federal Power Act, 16 U.S.C. 825d.

Magalie R. Salas,
Secretary.

[FR Doc. E5-1899 Filed 4-21-05; 8:45 am]

BILLING CODE 6717-01-P